DEPARTMENT OF TRANSPORTATION

Federal Aviation Administration

Notice of Intent of Waiver With Respect to Land; John Glenn Columbus International Airport, Columbus, OH

AGENCY: Federal Aviation Administration (FAA), DOT.

ACTION: Notice.

SUMMARY: The FAA is considering a proposal to change approximately 2.392 acres of airport land from aeronautical use to non-aeronautical use and to authorize the sale of airport property located at John Glenn Columbus International Airport, Columbus, OH. The property is located in the northwest portion of the airport along the north side of Johnstown Road, west of the Runway Protection Zone for Runway 10L. The aforementioned land is proposed to be sold for future development of an office/warehouse building and is not needed for aeronautical use.

DATES: Comments must be received on or before June 3, 2024.

ADDRESSES: All requisite and supporting documentation will be made available for review by appointment at the FAA Detroit Airports District Office, Mark Grennell, Program Manager, 11677 S Wayne Rd., Romulus, MI 48174. Telephone: (734) 229-2900/Fax: (734) 229-2950.

Written comments on the Sponsor's request may be submitted using any of the following methods:

• Federal eRulemaking Portal: Go to http://www.regulations.gov, and follow the instructions for sending your comments electronically.

• Mail: Mark Grennell, Program Manager, Federal Aviation Administration, Detroit Airports District Office, 11677 S Wayne Rd., Romulus, MI 48174-1412.

• Hand Delivery: Deliver to mail address above between 8 a.m. and 5 p.m. Monday through Friday, excluding Federal holidays.

• Fax: (734) 229-2950.

FOR FURTHER INFORMATION CONTACT: Mark Grennell, Program Manager, Federal Aviation Administration, Detroit Airports District Office, 11677 S Wayne Rd., Romulus, MI 48174. Telephone Number: (734) 229-2900/Fax: (734) 229-2950.

SUPPLEMENTARY INFORMATION: In accordance with section 47107(h) of title 49, United States Code, this notice is required to be published in the Federal Register 30 days before modifying the land-use assurance that requires the property to be used for an aeronautical purpose.

The subject property is currently undeveloped vacant land. The Columbus Regional Airport Authority (CRAA), sponsor of the John Glenn Columbus International Airport, is proposing to dispose of the property for compatible non-aeronautical development under the Sponsor's obligations of Grant Assurance 31, Disposal of Land. The 2.392-acre property, made up of thirteen parcels, was acquired in 1994 for noise compatibility with FAA Airport Improvement Program participation, grant number 3-39-0025-19. The anticipated future development includes a one-story office building and an office/warehouse building. CRAA plans to sell the property at fair market value to a proposed developer who will then develop the two buildings.

The disposition of proceeds from the sale of the airport property will be in accordance with FAA's Policy and Procedures Concerning the Use of Airport Revenue, published in the Federal Register on February 16, 1999 (64 FR 7696).

This notice announces that the FAA is considering the release of the subject airport property at the John Glenn Columbus International Airport, Columbus, OH, from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Parcel I: 190-001636-00

Situated in the State of Ohio, County of Franklin, and in the Township of Mifflin:

Being Lot Number 3 in Maple Lawn Addition, as the same is numbered and delineated upon the recorded plat thereof, of record in Plat Book 16 Page 31, Recorder's Office, Franklin County, Ohio.

Parcel II: 190-001637-00

Situated in the State of Ohio, County of Franklin, and in the Township of Mifflin:

Being Lot Number 4 in Maple Lawn Addition, as the same is numbered and delineated upon the recorded plat thereof, of record in Plat Book 16 Page 31, Recorder's Office, Franklin County, Ohio.

Parcel III: 190-001635-00

Situated in the State of Ohio, County of Franklin, and in the Township of Mifflin:

Being Lot Number 2 in Maple Lawn Addition, as the same is numbered and delineated upon the recorded plat thereof, of record in Plat Book 16 Page 31, Recorder's Office, Franklin County, Ohio.

Parcel IV: 190-001638-00

Situated in the State of Ohio, County of Franklin, and in the Township of Mifflin:

Being Lot Number 5 in Maple Lawn Addition, as the same is numbered and delineated upon the recorded plat thereof, of record in Plat Book 16 Page 31, Recorder's Office, Franklin County, Ohio.

Less and Excepting therefrom the following 120 Square Foot tract as conveyed by Herbert R. Mengert and Jean R. Menger to The Ohio Fuel and Gas Company by document recorded on October 11, 1926 of record in Deed Book 845 Page 65.

Situated in the State of Ohio, County of Franklin, and in the Township of Mifflin:

Being a part of Lot Number Five (No. 5) of Herbert R. Mengerts' Maple Lawn Addition to the City of Columbus as the same is numbered and delineated upon the recorded plat thereof, of record in Plat Book No. 16, page 51, Recorder's Office, Franklin County, Ohio; said part of said lot number five being a tract of ground ten feet by twelve feet (10 ft. x 12 ft.) in area, facing ten (10) feet upon Sterling Street and twelve (12) feet upon the alley along the Northern and Northwestern border of said lot and then South ten (10) feet and West twelve (12) feet to the place of beginning, containing in all one hundred twenty (120) square feet.

Parcel V: 190-001771-00

Situated in the State of Ohio, County of Franklin, and in the Township of Mifflin:

Being Lot Number 138 in Maple Lawn Addition, as the same is numbered and delineated upon the recorded plat thereof, of record in Plat Book 16 Page 31, Recorder's Office, Franklin County, Ohio.

Parcel VI: 190-001722-00

Situated in the State of Ohio, County of Franklin, and in the Township of Mifflin:

Being Lot Number 139 in Maple Lawn Addition, as the same is numbered and delineated upon the recorded plat thereof, of record in Plat Book 16 Page 31, Recorder's Office, Franklin County, Ohio.

Less and Excepting therefrom the following 0.12 Acre tract as conveyed by Jean R. Mengert to The State of Ohio, by document recorded on August 17, 1964 of record in Miscellaneous Book 136 Page 577.

Beginning at the northwest corner of said lot; thence along the north line of said lot 10 feet more or less to a point; thence across said lot to a point which is on the west line of said lot; thence north 9 feet more or less to the point of beginning.

Parcel VII: 190-001773-00

Situated in the State of Ohio, County of Franklin, and in the Township of Mifflin:

Being Lot Number 140 in Maple Lawn Addition, as the same is numbered and delineated upon the recorded plat thereof, of record in Plat Book 16 Page 31, Recorder's Office, Franklin County, Ohio.

Less and Excepting therefrom the following 0.09 Acre tract as conveyed by Jean R. Mengert to The State of Ohio, by document recorded on August 17, 1964 of record in Miscellaneous Book 136 Page 577.

Beginning at a point which is the northwest corner of said lot; thence along the north line of said lot 67 feet more or less to a point; thence across said lot 140 to a point on the south line of said lot; thence along the said south line 10 feet more or less to a point which is the southeast corner of said lot 140; thence along the west line of said lot 45 feet to the point of beginning.

Parcel VIII: 190-001774-00

Situated in the State of Ohio, County of Franklin, and in the Township of Mifflin:

Being Lot Number 141 in Maple Lawn Addition, as the same is numbered and delineated upon the recorded plat thereof, of record in Plat Book 16 Page 31, Recorder's Office, Franklin County, Ohio.

Less and Excepting therefrom the following 0.11 Acre tract as conveyed by Jean R. Mengert to The State of Ohio, by document recorded on August 17, 1964 of record in Miscellaneous Book 136 Page 577.

Beginning at a point which is the northwest corner of said lot; thence along the north line of said lot 112 feet to the northeast corner of said lot, being also the west right of way of Floway Drive, 14 feet more or less to a point; thence across said lot to a point on the south line of lot 141; thence along the south line of lot 141, 67 feet more or less to a point which is the southeast corner of said lot; thence along the west line of said lot 50 feet to the point of beginning.

Parcel IX: 190-000402-00

Situated in the State of Ohio, County of Franklin, and in the Township of Mifflin:

Being Lot Number 1 in Maple Lawn Addition, as the same is numbered and delineated upon the recorded plat thereof, of record in Plat Book 16 Page 31, Recorder's Office, Franklin County, Ohio.

Parcel X: 190-001768-00

Situated in the State of Ohio, County of Franklin, and in the Township of Mifflin:

Being Lot Number 135 in Maple Lawn Addition, as the same is numbered and delineated upon the recorded plat thereof, of record in Plat Book 16 Page 31, Recorder's Office, Franklin County, Ohio.

Less and Excepting therefrom the following tract as conveyed by Esther M. Willford and Maxwell L. Willford to The State of Ohio, by document recorded on August 7, 1967 of record in Deed Book 2417 Page 221.

Situated in the State of Ohio, County of Franklin, and in the Township of Mifflin:

Being part of lot 135 of the Maple Lawn Addition as recorded in Plat Book 16, Page 51, Recorders Office, Franklin County, Ohio and more fully described as follows:

Beginning at a point which is the northwest corner of said Lot 135; thence along the north line of said lot, 79 feet more or less to a point; thence across said lot to a point which is on the south line of said lot; thence along the said south line 13 feet more or less; thence along the west line of said lot, being also the east right of way line of Sterling Avenue, 50 feet to the point of beginning.

Parcel XI: 190-001769-00

Situated in the State of Ohio, County of Franklin, and in the Township of Mifflin:

Being Lot Number 136 in Maple Lawn Addition, as the same is numbered and delineated upon the recorded plat thereof, of record in Plat Book 16 Page 31, Recorder's Office, Franklin County, Ohio.

Less and Excepting therefrom the following tract as conveyed by Esther M. Willford and Maxwell L. Willford to The State of Ohio, by document recorded on August 7, 1967 of record in Deed Book 2417 Page 221.

Situated in the State of Ohio, County of Franklin, and in the Township of Mifflin:

Being part of lot 136 of the Maple Lawn Addition as recorded in Plat Book 16, Page 51, Recorders Office, Franklin County, Ohio and more fully described as follows:

Beginning at a point which is the northwest corner of said Lot 136; thence east along the north line of said lot 136, 13 feet more or less to a point; thence across said lot to a point on the west line of said lot said point being also 120.00 feet right of centerline Station 1088+41.21 of the above mentioned centerline survey; thence north along said west line being the east right of way line of existing Sterling Avenue, 10 feet more or less to the point of beginning.

Parcel XII: 190-001770-00

Situated in the State of Ohio, County of Franklin, and in the Township of Mifflin:

Being Lot Number 137 in Maple Lawn Addition, as the same is numbered and delineated upon the recorded plat thereof, of record in Plat Book 16 Page 31, Recorder's Office, Franklin County, Ohio.

Parcel XIII: 190-001939-00

Situated in the State of Ohio, County of Franklin, and in the Township of Mifflin:

Being a part of Lot Number Five (No. 5) of Herbert R. Mengerts' Maple Lawn Addition to the City of Columbus as the same is numbered and delineated upon the recorded plat thereof, of record in Plat Book No. 16, page 51, Recorder's Office, Franklin County, Ohio; said part of said lot number five being a tract of ground ten feet by twelve feet (10 ft. x 12 ft.) in area, facing ten (10) feet upon Sterling Street and twelve (12) feet upon the alley along the Northern and Northwestern border of said lot and then South ten (10) feet and West twelve (12) feet to the place of beginning, containing in all one hundred twenty (120) square feet.

Being the same premises conveyed to The Ohio Fuel Gas Company by Herbert R. Mengert and Jane Rowland Mengert,

husband and wife, by deed dated August 19, 1926, and recorded in Deed Book Volume 845, page 65 of the Deed Records of Franklin County, Ohio.

Parcel XIV:

Together with any and all interest contained in the portions of Right of Way as vacated by the Franklin County Commissioners in Road Record 27 Page 144 and Recorded in Instrument 199903260075325. (As to All Parcels)

Issued in Romulus, Michigan, on April 25, 2024.
Stephanie R. Swann,
Deputy Manager, Detroit Airports District Office, FAA, Great Lakes Region.

[FR Doc. 2024-09568 Filed 5-1-24; 8:45 am]

BILLING CODE 4910-13-P